DEPARTMENT OF LABOR

Homeless Veterans' Reintegration Program

AGENCY: Veterans' Employment and Training Service (VETS), Department of Labor.

Announcement Type: New Notice of Availability of Funds and Solicitation for Grant Applications. The full announcement is posted on www.grants.gov.

Funding Opportunity Number: SGA #01-12/PY 2012.

Key Dates: The closing date for receipt of applications is April 30, 2012.

Funding Opportunity Description: Section 2021 of Title 38 of the United States Code (U.S.C.) reauthorizes the Homeless Veterans Reintegration Program (HVRP) through fiscal year (FY) 2012 and indicates: “the Secretary of Labor shall conduct, directly or through grant or contract, such programs as the Secretary determines appropriate to provide job training, counseling, and placement services (including job readiness and literacy and skills training) to expedite the reintegration of homeless veterans into the labor force.”

HVRP grants are intended to address two objectives: (1) To provide services to assist in reintegrating homeless veterans into meaningful employment within the labor force, and (2) to stimulate the development of effective service delivery systems that will address the complex problems facing homeless veterans.

The full Solicitation for Grant Application is posted on www.grants.gov under U.S. Department of Labor/VETS. Applications submitted through www.grants.gov or hard copy will be accepted. If you need to speak to a person concerning these grants, you may telephone Cassandra Mitchell at 202-693-4570 (not a toll-free number). If you have issues regarding access to the www.grants.gov Web site, you may telephone the Contact Center Phone at 1-800-518-4726.

Signed at Washington, DC, this 29th day of March 2012.
Cassandra R. Mitchell,
Grant Officer.

[FR Doc. 2012-8254 Filed 4-5-12; 8:45 am]

BILLING CODE 4510-79-P